DEPARTMENT OF THE TREASURY

Submission for OMB Review; Comment Request

October 9, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before November 17, 2008, to be assured of consideration.

Internal Revenue Service (IRS)

OMB Number: 1545-XXXX.

Type of Review: New Collection Request.

Title: Rev Proc 2008-XX Exempt Organizations Voluntary Compliance Program (EOVCP).

Description: This information collection is needed to offer a voluntary compliance program of limited time to non-filers of Form 990 Series. The objective is to enhance voluntary compliance with respect to reporting and filing obligations under sections 26 U.S.C. 6033 and 6011 for entities exempt under 26 U.S.C. 501(a). The data collected will be used by the Tax Exempt and Government Entities division of the Internal Revenue Service to help certain exempt organizations meet their reporting and filing obligations.

Respondents: Not-for-profit institutions.

Estimated Total Burden Hours: 30,000 hours.

Clearance Officer: Glenn P. Kirkland, (202) 622-3428, Internal Revenue Service, Room 6516, 1111 Constitution Avenue, NW., Washington, DC 20224.

OMB Reviewer: Kimberly Nelson, (202) 395-3787, Office of Management and Budget, Room 10235, New Executive Office Building, Washington, DC 20503.

Robert Dahl,
Treasury PRA Clearance Officer.

[FR Doc. E8-24667 Filed 10-16-08; 8:45 am]

BILLING CODE 4830-01-P